COMMITTEE FOR THE IMPLEMENTATION OF TEXTILE AGREEMENTS

Amendment to a Determination Under the African Growth and Opportunity Act (AGOA)

November 18, 2005.

AGENCY: Committee for the Implementation of Textile Agreements (CITA).

ACTION: Directive to the Commissioner of Customs and Border Protection.

SUMMARY: Amendments to CITA's directive that determined certain textile and apparel goods from Nigeria be treated as “handloomed, handmade, folklore articles, or ethnic printed fabrics” and qualify for preferential treatment under the AGOA.

EFFECTIVE DATE: August 1, 2005.

FOR FURTHER INFORMATION CONTACT: Anna Flaaten, International Trade Specialist, Office of Textiles and Apparel, U.S. Department of Commerce, (202) 482-3400.

SUPPLEMENTARY INFORMATION:

Authority: Sections 112(a) and 112(b)(6) of the African Growth and Opportunity Act (Title I of the Trade and Development Act of 2000, Pub. L. No. 106-200) (“AGOA”), as amended by Section 7(c) of the AGOA Acceleration Act of 2004 (Pub. L. 108-274) (“AGOA Acceleration Act”) (19 U.S.C. §§ 3721(a) and (b)(6)); Sections 2 and 5 of Executive Order No. 13191 of January 17, 2001; Sections 25-27 and Paras. 13-14 of Presidential Proclamation 7912 of June 29, 2005.

AGOA provides preferential tariff treatment for imports of certain textile and apparel products of beneficiary sub-Saharan African countries, including hand-loomed, handmade, or folklore articles of a beneficiary country that are certified as such by the competent authority in the beneficiary country. The AGOA Acceleration Act further expanded AGOA by adding ethnic printed fabrics to the list of textile and apparel products made in the beneficiary sub-Saharan African countries that may be eligible for the preferential treatment described in section 112(a) of the AGOA. CITA approved Nigeria for Category 9 effective August 1, 2005. (70 FR 43397).

The United States and Nigeria have agreed to add Atlantic Textiles Manufacturing Co. Ltd. to the list of companies in Annex B who are producers of ethnic printed fabrics in Nigeria.

CITA notes a technical correction to this same notice. The Harmonized Tariff Schedule of the United States (HTSUS) number referenced in Annex B applicable to ethnic printed fabrics is 5208.52.40, not 5208.32.40.

James C. Leonard III,
Chairman, Committee for the Implementation of Textile Agreements.

Committee for the Implementation of Textile Agreements

November 18, 2005.

Commissioner,

Bureau of Customs and Border Protection, Washington, DC 20229.

Dear Commissioner: The directive issued to you on July 21, 2005 regarding articles made in Nigeria to be treated as “handloomed, handmade, folklore articles, or ethnic printed fabrics” under the AGOA is amended as follows:

1. Add Atlantic Textiles Manufacturing Co. Ltd. to the list of producers of ethnic printed fabrics in Nigeria in Annex B.

2. Strike 5208.32.40 and replace with 5208.52.40 in Annex B.

Sincerely,

James C. Leonard III,

Chairman, Committee for the Implementation of Textile Agreements.

[FR Doc. 05-23280 Filed 11-23-05; 8:45 am]

BILLING CODE 3510-DS